DEPARTMENT OF LABOR

Employment and Training Administration

[TA-W-58,220]

A.M.S.E.A., Inc. Including On-Site Leased Workers of Technical Employment Solutions and Progressive Personnel Services; Fenton, MI; Notice of Termination of Investigation

Pursuant to Section 221 of the Trade Act of 1974, as amended, an investigation was initiated on November 27, 2005 in response to a worker petition filed by a company official on behalf of workers at A.M.S.E.A., Inc., Fenton, Michigan.

The petitioner has requested that the petition be withdrawn. Consequently, the investigation has been terminated.

Signed at Washington, DC, this 30th day of November 2005.
Richard Church,
Certifying Officer, Division of Trade Adjustment Assistance.

[FR Doc. E5-7050 Filed 12-7-05; 8:45 am]

BILLING CODE 4510-30-P